DEPARTMENT OF ENERGY

Federal Energy Regulatory Commission

[Project No. 11392-008—NC]

J&T Hydro Corporation; Notice of Availability of Environmental Assessment

October 18, 2006.

In accordance with the National Environmental Policy Act of 1969 and the Federal Energy Regulatory Commission's regulations, 18 CFR part 380 (Order No. 486, 52 FR 47879), the Office of Energy Projects reviewed the application for surrender of project license for the Ramseur Hydroelectric Project, located on the Deep River in the Town of Ramseur, Randolph County, North Carolina, and has prepared an Environmental Assessment (EA). In the EA, Commission staff analyzed the potential environmental impacts of the project and conclude that surrender of the project license as proposed would not constitute a major Federal action significantly affecting the quality of the human environment.

A copy of the EA is on file with the Commission and is available for public inspection. The EA may also be viewed on the Commission's Web site at http://www.ferc.gov using the “eLibrary” link. Enter the docket number (P-11392) excluding the last three digits in the docket number field to access the document. For assistance, contact FERC Online Support at FERCOnlineSupport@ferc.gov or toll-free at 1-866-208-3676, or for TTY, (202) 502-8659.

Any comments should be filed by November 20, 2006, and should be addressed to the Secretary, Federal Energy Regulatory Commission, 888 First Street, NE., Room 1-A, Washington, DC 20426. Please reference the project name and project number (P-11392) on all comments. Comments may be filed electronically via Internet in lieu of paper. The Commission strongly encourages electronic filings. See 18 CFR 385.2001(a)(1)(iii) and the instructions on the Commission's Web site under the “eFiling” link. For further information, contact Chris Yeakel at (202) 502-8132.

Magalie R. Salas,
Secretary.

[FR Doc. E6-18104 Filed 10-27-06; 8:45 am]

BILLING CODE 6717-01-P